POSTAL SERVICE

Sunshine Act Meeting

Times and Dates: 1 p.m., Monday, February 2, 2004; 8:30 a.m., Tuesday, February 3, 2004.

Place: Hollywood, Florida, at the Westin Diplomat Hotel, 3555 South Ocean Drive, in Atlantic Ballroom 1.

Status: February 2—1 p.m. (Closed); February 3—8:30 a.m. (Open)

Matters to be Considered:

Monday, February 2—1 p.m. (Closed)

1. Financial Update.

2. Negotiated Service Agreement (NSA).

3. Proposed Postal Rate Commission Filing for Small Publications.

4. Strategic Planning.

5. Personnel Matters and Compensation Issues.

Tuesday, February 3—8:30 a.m. (Open)

1. Minutes of the Previous Meeting, January 6, 2004.

2. Remarks of the Postmaster General and CEO.

3. Committee Reports and Appointment of Members of Board Committees.

Tuesday, February 3—8:30 a.m. (Open) [continued]

4. Capital Investments

a. Optical Character Reader Enhancements for Letter Mail Automation.

b. New York, New York, Church Street Station and Federal Office Building Phase III Development Project.

c. Kansas City, Missouri, Main Post office and Mid-American District Office.

d. Santa Monica, California, Carrier Annex.

5. Quarterly Report on Service Performance.

6. Quarterly Report on Financial Performance.

7. Report on the Southeast Area and South Florida District.

8. Tentative Agenda for the March 1-2, 2004, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 04-1732 Filed 1-22-04; 2:37 pm]

BILLING CODE 7710-12-M